DEPARTMENT OF AGRICULTURE

Natural Resources Conservation Service

[Docket No. NRCS-2018-0013]

South Branch Potomac River Subwatershed of the Potomac River Watershed, Highland County, Virginia and Pendleton and Grant Counties, West Virginia

AGENCY: Natural Resources Conservation Service, (NRCS), USDA.

ACTION: Notice of deauthorization of Federal funding.

SUMMARY: NRCS gives notice of the deauthorization of Federal funding for the South Branch Potomac River Subwatershed of the Potomac River Watershed project, Highland County, Virginia and Pendleton and Grant Counties, West Virginia, effective November 29, 2018.

FOR FURTHER INFORMATION CONTACT: For further information contact the following individuals: John Bricker, Virginia State Conservationist, NRCS, 1606 Santa Rosa Road, Suite 209, Richmond, Virginia 23229, (804) 287-1691 or Jack.Bricker@va.usda.gov. Louis Aspey, West Virginia State Conservationist, NRCS, 1550 Earl L. Core Road, Suite 200, Morgantown, West Virginia 26505, (304) 284-7540 or Louis.Aspey@wv.usda.gov.

SUPPLEMENTARY INFORMATION: Pursuant to the Flood Control Act Public Law 78-534 and the Natural Resources Conservation Service (NRCS) Guidelines (7 CFR part 622), a determination has been made that the proposed works of improvement for the South Branch Potomac River Subwatershed of the Potomac River Watershed project will not be installed. The sponsoring local organization have concurred in this determination and agree that Federal funding should be deauthorized for the project. Information regarding this determination may be obtained from John Bricker, Virginia State Conservationist, and Louis Aspey, West Virginia State Conservationist, at the above addresses and telephone numbers.

No administrative action on implementation of the proposed deauthorization will be taken until 60 days after the date of this publication in the Federal Register.

Catalog of Federal Domestic Assistance: Catalog of Federal Domestic Assistance Program No. 10.904, Watershed Protection and Flood Prevention. Executive Order 12372 regarding State and local clearinghouse review of Federal and federally assisted programs and project is applicable.

John A. Bricker,
VA State Conservationist.
Louis Aspey,
WV State Conservationist.

[FR Doc. 2019-08598 Filed 4-26-19; 8:45 am]

BILLING CODE 3410-16-P